NUCLEAR REGULATORY COMMISSION

Sunshine Act Meeting

DATE: Weeks of June 25, July 2, 9, 16, 23, 30, 2001.

PLACE: Commissioners' Conference Room, 11555 Rockville Pike, Rockville, Maryland.

STATUS: Public and Closed.

MATTERS TO BE CONSIDERED:

Week of June 25, 2001

Wednesday, June 27, 2001

9:25 a.m.—Affirmation Session (Public Meeting) (If needed)

Week of July 2, 2001—Tentative

There are no meetings scheduled for the Week of July 2, 2001.

Week of July 9, 2001—Tentative

Monday, July 9, 2001

1:25 p.m.—Affirmation Session (Public Meeting) (If needed)

Week of July 16, 2001—Tentative

Thursday, July 19, 2001

9:25 a.m.—Affirmation Session (Public Meeting) (If needed)

9:30 a.m.—Briefing on Results of Agency Action Review Meeting—Reactors (Public Meeting) (Contact: Ron Frahm, 301-415-2986)

1:30 p.m.—Briefing on Readiness for New Plant Applications and Construction (Public Meeting) (Contact: Nanette Gilles, 301-415-1180)

Friday, July 20, 2001

9:30 a.m.—Briefing on Results of Reactor Oversight Process Initial Implementation (Public Meeting) (Contact: Tim Frye, 301-415-1287)

1:00 p.m.—Briefing on Risk-Informing Special Treatment Requirements (Public Meeting) (Contact: John Nakoski, 301-415-1287)

Week of July 23, 2001—Tentative

Wednesday, July 25, 2001

9:25 a.m.—Affirmation Session (Public Meeting) (If needed)

Week of July 30, 2001—Tentative

Tuesday, July 31, 2001

1:25 p.m.—Affirmation Session (Public Meeting) (If needed)

Note: The schedule for Commission meetings is subject to change on short notice. To verify the status of meetings call (recording)—301-415-1292. Contact person for more information: David Louis Gamberoni (301) 415-1651.

Additional Information

By a vote of 5-0 on June 14, the Commission determined pursuant to U.S.C. 552b(e) and § 9.107(a) of the Commission's rules that “Affirmation of Order Referring Petitions to Intervene in MOX Proceeding to Licensing Board” be held on June 14, and on less than one week's notice to the public.

By a vote of 5-0 on June 20, the Commission determined pursuant to U.S.C. 552b(e) and § 9.107(a) of the Commission's rules that “Affirmation of Power Authority of the State of New York Entery Companies; Applications to Transfer Licenses for Indian Point 3 and Fitzpatrick Nuclear Plants; Merits Decision” to be held on June 21, and on less than one week's notice to the public.

The NRC Commission Meeting Schedule can be found on the Internet at: http://www.nrc.gov/SECY/smj/schedule.htm.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov..

Dated: June 21, 2001.
David Louis Gamberoni,
Technical Coordinator, Office of the Secretary.

[FR Doc. 01-16088 Filed 6-22-01; 11:08 am]

BILLING CODE 7590-01-M